DEPARTMENT OF LABOR

Employment and Training Administration

TA-W-81,520, T-Mobile USA, Inc., Call Center, Allentown, PA; TA-W-81,520G, T-Mobile USA, Inc., Headquarters Office, Bellevue, WA; Amended Certification Regarding Eligibility To Apply for Worker Adjustment Assistance

In accordance with Section 223 of the Trade Act of 1974, as amended (“Act”), 19 U.S.C. 2273, the Department of Labor issued a Certification of Eligibility to Apply for Worker Adjustment Assistance on July 11, 2012, applicable to workers of T-Mobile USA, Inc., Call Center, Allentown, Pennsylvania (TA-W-81,520), Fort Lauderdale, Florida (TA-W-81,520A), Frisco, Texas (TA-W-81,520B), Brownsville, Texas (TA-W-81,520C), Lenexa, Kansas (TA-W-81,520D), Thornton, Colorado (TA-W-81,520E),and Redmond, Oregon (TA-W-81,520F). The workers are engaged in the supply of call center services. The notice will be published soon in the Federal Register.

At the request of the State agency, the Department reviewed the certification for workers of the subject firm. Information shows that worker separations occurred during the relevant time period at the Headquarters Office of T-Mobile USA, Inc., Bellevue, Washington. The Bellevue, Washington location provides human resources, and various administrative functions for T-Mobile USA, Inc.

Accordingly, the Department is amending the certification to include workers of the Bellevue, Washington location of T-Mobile USA, Inc., Call Center.

The intent of the Department's certification is to include all workers of the subject firm who were adversely affected by the acquisition of call center services from the Philippines.

The amended notice applicable to TA-W-81,520 is hereby issued as follows:

All workers from T-Mobile USA, Inc., Call Center, Allentown, Pennsylvania (TA-W-81,520), T-Mobile USA, Inc., Call Center, Fort Lauderdale, Florida (TA-W-81,520A), T-Mobile USA, Inc., Call Center, Frisco, Texas (TA-W-81,520B), T-Mobile USA, Inc., Call Center, Brownsville, Texas (TA-W-81,520C), T-Mobile USA, Inc., Call Center, Lenexa, Kansas (TA-W-81,81,520D), T-Mobile USA, Inc., Call Center, Thornton, Colorado (TA-W-81,520E), T-Mobile USA, Inc., Redmond, Oregon (TA-W-81,520F), and T-Mobile USA, Inc., Headquarters Office, Bellevue, Washington (TA-W-81,520G), who became totally or partially separated from employment on or after April 17, 2011 through July 11, 2014, and all workers in the group threatened with total or partial separation from employment on the date of certification through two years from the date of certification, are eligible to apply for adjustment assistance under Chapter 2 of Title II of the Trade Act of 1074, as amended.

Signed at Washington, DC, this 26th day of July 2012.
Michael W. Jaffe,
Certifying Officer, Office of Trade Adjustment Assistance.

[FR Doc. 2012-19466 Filed 8-8-12; 8:45 am]

BILLING CODE 4510-FN-P